DEPARTMENT OF COMMERCE

National Oceanic and Atmospheric Administration

50 CFR Part 660

[Docket No. 210505-0101; RTID 0648-XB996]

Fisheries Off West Coast States; Modification of the West Coast Salmon Fisheries; Inseason Actions #3 Through #11

AGENCY: National Marine Fisheries Service (NMFS), National Oceanic and Atmospheric Administration (NOAA), Commerce.

ACTION: Inseason modification of 2021 management measures.

SUMMARY: NMFS announces nine inseason actions in the 2021 ocean salmon fisheries. These inseason actions modify the commercial ocean salmon fisheries in the area from the U.S./Canada border to the U.S./Mexico border.

DATES: The effective dates for the inseason actions are set out in this document under the heading Inseason Actions and the actions remain in effect until superseded or modified.

FOR FURTHER INFORMATION CONTACT: Dana Preedeedilok at 562-980-4019, Email: dana.preedeedilok@noaa.gov.

SUPPLEMENTARY INFORMATION:

Background

The 2021 annual management measures for ocean salmon fisheries (86 FR 26425, May 14, 2021), announced management measures for the commercial and recreational fisheries in the area from the U.S./Canada border to the U.S./Mexico border, effective from 0001 hours Pacific Daylight Time (PDT), May 16, 2021, until the effective date of the 2022 management measures, as published in the Federal Register. NMFS is authorized to implement inseason management actions to modify fishing seasons and quotas as necessary to provide fishing opportunity while meeting management objectives for the affected species (50 CFR 660.409). Inseason actions in the salmon fishery may be taken directly by NMFS (50 CFR 660.409(a)—Fixed inseason management provisions) or upon consultation with the Chairman of the Pacific Fishery Management Council (Council), and the appropriate State Directors (50 CFR 660.409(b)—Flexible inseason management provisions).

Management of the salmon fisheries is divided into two geographic areas: North of Cape Falcon (NOF) (U.S./Canada border to Cape Falcon, OR), and south of Cape Falcon (SOF) (Cape Falcon, OR, to the U.S./Mexico border). The actions described in this document affect both the NOF and SOF commercial salmon fishery, as set out under the heading Inseason Action below.

Consultations with the Council Chairperson on these inseason actions occurred on April 11, 2022, and April 22, 2022. Representatives from NMFS, Oregon Department of Fish and Wildlife (ODFW), California Department of Fish and Wildlife (CDFW), and Council staff participated in the consultation on April 11, 2022. Representatives from NMFS, Washington Department of Fish and Wildlife (WDFW), ODFW, and Council staff participated in the consultation on April 22, 2022.

These inseason actions were announced on NMFS' telephone hotline and U.S. Coast Guard radio broadcast on the date of the consultations (50 CFR 660.411(a)(2)).

Inseason Actions

Reason and Authorization for Inseason Actions #3-#9

The fisheries affected by the inseason actions described below were authorized in the final rule for 2021 annual management measures for ocean salmon fisheries (86 FR 26425, May 14, 2021). At its April 7-13, 2022, meeting, the Council finalized development of its recommended 2022 ocean salmon management measures. Based on the Salmon Technical Team (STT) report, SOF ocean salmon fisheries will be constrained in 2022 by the abundance forecast for Klamath River fall-run Chinook salmon (KRFC), which was determined by NMFS in 2018 to be overfished under the Magnuson-Stevens Fishery Conservation and Management Act (MSA), and the natural component of the lower Columbia River fall-run Chinook salmon species. The forecast of potential spawner abundance is derived from the ocean abundance forecasts, ocean natural mortality rates, age-specific maturation rates, stray rates, and the proportion of escapement expected to spawn in natural areas. To reduce the impacts on KRFC, NMFS took seven inseason actions concurrent with the April Council meeting to restrict some fisheries that were previously scheduled to open prior to May 16, 2022 (86 FR 26425, May 14, 2021).

The NMFS West Coast Regional Administrator (RA) considered the abundance forecasts for Chinook salmon stocks and the impacts on the ocean salmon fisheries, as modeled by the STT, and determined that the inseason actions, described below, were necessary to meet management and conservations goals set preseason. These inseason actions modify fishing seasons under 50 CFR 660.409(b)(1)(i).

Inseason Action #3

Description of the action: Inseason action #3 modifies the commercial ocean salmon fishery from Cape Falcon, OR, to the Heceta Bank Line, OR (latitude 43°58′00″ N). This fishery, which did not have a closing date in the 2021 management measures, will close at 11:59 p.m. on May 15, 2022.

Effective date: Inseason action #3 took effect on April 11, 2022, and remains in effect until superseded.

Inseason Action #4

Description of the action: Inseason action #4 modifies the commercial salmon troll fishery in the area from the Heceta Bank Line, OR, to Humbug Mountain, OR. This action supersedes inseason action #1 (87 FR 24882, April 27, 2022). Under inseason action #4, this fishery, which opened at 12:01 a.m., May 1, 2022, closes at 11:59 p.m., May 15, 2022.

Effective date: Inseason action #4 took effect on April 11, 2022, and remains in effect until superseded.

Inseason Action #5

Description of the action: Inseason action #5 modifies the commercial salmon troll fishery in the area from Humbug Mountain, OR to the Oregon/California border (Oregon Klamath Management Zone). This fishery, which did not have a closing date in the 2021 management measures, closes at 11:59 p.m. on April 30, 2022.

Effective date: Inseason action #5 took effect on April 11, 2022, and remains in effect until superseded.

Inseason Action #6

Description of the action: Inseason action #6 modified the commercial ocean salmon fishery from the Oregon/California border to Humboldt South Jetty. This fishery, which was previously scheduled to open May 1, 2022, is closed.

Effective date: Inseason action #6 took effect on April 11, 2022, and remains in effect until superseded.

Inseason Action #7

Description of the action: Inseason action #7 modifies the commercial ocean salmon fishery from the area between latitude 40°10′ N and Point Arena, CA (Fort Bragg management area). This fishery, which was previously scheduled to open April 16, 2022, is closed.

Effective date: Inseason action #7 took effect on April 11, 2022, and remains in effect until superseded.

Inseason Action #8

Description of the action: Inseason action #8 modifies the commercial ocean salmon fishery in the area from Point Arena, CA, to Pigeon Point, CA (San Francisco management area). This fishery, which was previously scheduled to open May 1, 2022, is closed.

Effective date: Inseason action #8 took effect on April 11, 2022, and remains in effect until superseded.

Inseason Action #9

Description of the action: Inseason action #9 modifies the commercial ocean salmon fishery in the area from Pigeon Point, CA, to the U.S./Mexico Border (Monterey management area), which was previously scheduled to open May 1, 2022, with no closing date. This fishery is now scheduled to open May 1-5, 2022, and May 10-15, 2022. All fish caught in this area must be landed within 24 hours of any closure of the fishery and must be landed south of Point Arena, CA.

Effective date: Inseason action #9 took effect on April 11, 2022, and remains in effect until superseded.

Reason and Authorization for Inseason Actions #10-#11

The 2021 annual management measures for ocean salmon fisheries (86 FR 26425, May 14, 2021) established a May-June commercial salmon fishery that included NOF subarea quotas that were based on information available at the time the 2021 management measures were adopted. The 2021 management measures allow for inseason action to adjust fisheries scheduled to occur from March 15, 2022, through May 15, 2022, in response to new information on salmon stock abundance forecasts and northern salmon fisheries impacts, to keep fisheries impacts within management objectives and consistent with conservation needs.

Improved salmon stock forecasts in 2022 will provide NOF salmon fisheries with more total allowable catch (TAC) than in 2021. The Council has adopted and transmitted to NMFS its recommended 2022 management measures which take into account this new information. The increased TAC provides for higher quotas and landing limits in the May-June commercial salmon fishery NOF in 2022 than in 2021.

The RA considered the abundance forecasts for Chinook salmon stocks and the impacts on the ocean salmon fisheries, as modeled by the STT, and determined that the inseason actions, described below, were necessary to meet management and conservations goals set preseason. These inseason actions modify fishing quotas and limited retention regulations authorized under 50 CFR 660.409(b)(1)(i) and (ii).

Inseason Action #10

Description of the action: Inseason action #10 modifies the quota and subarea catch limits for the commercial salmon troll fishery from the U.S./Canada border to Cape Falcon, OR. Salmon caught in the NOF commercial salmon fisheries, May 1-15, 2022, will count against the overall 2022 May-June NOF and subarea quotas. The May-June NOF commercial salmon fishery quota is increased from 15,375 Chinook salmon set in 2021, to 18,000 Chinook salmon in 2022, no more than 6,040 of which may be caught in the area between the U.S/Canada border and the Queets River, and no more than 4,840 of which may be caught in the area between Leadbetter Point and Cape Falcon.

Effective date: Inseason action #10 took effect on April 22, 2022, and remains in effect until superseded.

Inseason Action #11

Description of the action: Inseason action #11 modifies the Chinook salmon landing and possession limit for the commercial ocean salmon troll fishery that opens May 1, 2022, from the U.S/Canada border to Queets River and from Leadbetter Point to Cape Falcon from 75 Chinook salmon per vessel per week (Thursday through Wednesday) to 80 Chinook salmon per vessel per landing week (Thursday through Wednesday).

Effective date: Inseason action #11 took effect on April 22, 2022, and remains in effect until superseded.

All other restrictions and regulations remain in effect as announced for the 2021 ocean salmon fisheries (86 FR 26425, May 14, 2021), as modified by previous inseason action (86 FR 34161, June 29, 2021; 86 FR 37249, July 15, 2021; 86 FR 40182, July 28, 2021; 86 FR 43967, August 11, 2021; 86 FR 48343, August 30, 2021; 86 FR 54407, October 1, 2021; 86 FR 64082, November 17, 2021; 87 FR 24882, April 27, 2022).

The RA determined that these inseason actions were warranted based on the best available information on Pacific salmon abundance forecasts, landings to date, anticipated fishery effort and projected catch, and the other factors and considerations set forth in 50 CFR 660.409. The states manage the fisheries in state waters adjacent to the areas of the U.S. exclusive economic zone (3-200 nautical miles (5.6-370.4 kilometers) off the coasts of the states of Washington, Oregon, and California) consistent with these Federal actions. As provided by the inseason notice procedures at 50 CFR 660.411, actual notice of the described regulatory action was given, prior to the time the action was effective, by telephone hotline numbers 206-526-6667 and 800-662-9825, and by U.S. Coast Guard Notice to Mariners broadcasts on Channel 16 VHF-FM and 2182 kHz.

Classification

NMFS issues these actions pursuant to section 305(d) of the MSA. These actions are authorized by 50 CFR 660.409, which was issued pursuant to section 304(b) of the MSA, and is exempt from review under Executive Order 12866.

Pursuant to 5 U.S.C. 553(b)(3)(B), there is good cause to waive prior notice and an opportunity for public comment on this action, as notice and comment would be impracticable and contrary to the public interest. Prior notice and opportunity for public comment on this action was impracticable because NMFS had insufficient time to provide for prior notice and the opportunity for public comment between the time Chinook salmon abundance, catch, and effort information were developed and fisheries impacts were calculated, and the time the fishery modifications had to be implemented in order to ensure that fisheries are managed based on the best scientific information available and that fishery participants can take advantage of the additional fishing opportunity these changes provide. As previously noted, actual notice of the regulatory actions was provided to fishers through telephone hotline and radio notification. These actions comply with the requirements of the annual management measures for ocean salmon fisheries (86 FR 26425, May 14, 2021), the Fishery Management Plan (FMP), and regulations implementing the FMP under 50 CFR 660.409 and 660.411.

There is good cause under 5 U.S.C. 553(d)(3) to waive the 30-day delay in effective date, as a delay in effectiveness of this action would restrict fishing at levels inconsistent with the goals of the FMP and the current management measures.

Authority: 16 U.S.C. 1801 et seq.

Dated: May 12, 2022.
Jennifer M. Wallace,
Acting Director, Office of Sustainable Fisheries, National Marine Fisheries Service.

[FR Doc. 2022-10597 Filed 5-18-22; 8:45 am]

BILLING CODE 3510-22-P